DEPARTMENT OF HEALTH AND HUMAN SERVICES

National Institutes of Health

Notice of a Meeting of a Working Group of the NIH Advisory Committee to the Director

The purpose of this notice is to inform the public about a meeting of the NIH Blue Ribbon Panel to Advise on the Risk Assessment of the National Emerging Infectious Diseases Laboratories (NEIDL) at Boston University Medical Campus.

The meeting will be held Wednesday, September 22, 2010 at the Hyatt Regency Bethesda, 7400 Wisconsin Avenue, Bethesda, MD 20814 from approximately 8:30 a.m. to 3:30 p.m.

This meeting is the third in a series of public meetings between the Blue Ribbon Panel and the National Research Council Committee on Technical Input (NRC Committee) to review and discuss the ongoing supplementary risk assessment study being conducted for the Boston University NEIDL.

The meeting will be open to the public, with attendance limited to space available. There will be a live webcast of the meeting which can be accessed at http://nihblueribbonpanel-bumc-neidl.od.nih.gov/. Individuals who plan to attend and need special assistance, such as sign language interpretation or other reasonable accommodations, should notify the contact person listed below in advance of the meeting.

Oral public comment will begin at approximately 3 p.m. Written comments may be provided, as well, by sending them to the address below. Written comments must be postmarked by October 1, 2010 and should include the name, address, telephone number and, when applicable, the business or professional affiliation of the commenter.

A draft agenda and slides for the meeting may be obtained by connecting to http://nihblueribbonpanel-bumc-neidl.od.nih.gov/. For additional information concerning this meeting, contact Ms. Kelly Fennington, Senior Health Policy Analyst, Office of Biotechnology Activities, Office of Science Policy, Office of the Director, National Institutes of Health, 6705 Rockledge Drive, Room 750, Bethesda, MD 20892-7985; telephone 301-496-9838; e-mail fennington@nih.gov.

Dated: August 16, 2010.
Amy P. Patterson,
Acting Director, Office of Science Policy, National Institutes of Health.

[FR Doc. 2010-20860 Filed 8-20-10; 8:45 am]

BILLING CODE 4140-01-P